DEPARTMENT OF DEFENSE

Department of the Army

[Docket ID USA-2013-0017]

Privacy Act of 1974; System of Records

AGENCY: Department of the Army, DoD.

ACTION: Notice to amend a System of Records.

SUMMARY: The Department of the Army is amending a system of records notice in its existing inventory of record systems subject to the Privacy Act of 1974 (5 U.S.C. 552a), as amended.

DATES: This proposed action will be effective on July 26, 2013 unless comments are received which result in a contrary determination. Comments will be accepted on or before July 25, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Jr., Department of the Army, Privacy Office, U.S. Army Records Management and Declassification Agency, 7701 Telegraph Road, Casey Building, Suite 144, Alexandria, VA 22315-3827 or by phone at 703-428-6185.

SUPPLEMENTARY INFORMATION: The Department of the Army systems of records notices subject to the Privacy Act of 1974 (5 U.S.C. 552a), as amended, have been published in the Federal Register and are available from the address in FOR FURTHER INFORMATION CONTACT or at the Defense Privacy and Civil Liberties Office Web site at http://dpclo.defense.gov/privacy/SORNs/component/army/index.html.

The proposed changes to the record system being amended are set forth below. The proposed amendment is not within the purview of subsection (r) of the Privacy Act of 1974 (5 U.S.C. 552a), as amended, which requires the submission of a new or altered system report.

Dated: June 20, 2013.
Aaron Siegel,
Alternate OSD Federal Register Liaison Officer, Department of Defense.

AAFES 0903.06

System name:

Personnel Management Information System (August 9, 1996, 61 FR 41572).

Changes:

* * * * *

Categories of individuals covered by the system:

Delete entry and replace with “All employees of the Army and Air Force Exchange Service (Exchange).”

* * * * *

Authority for maintenance of the system:

Delete entry and replace with “10 U.S.C. 3013, Secretary of the Army and 8013, Secretary of the Air Force; Army Regulation 215-3, Nonappropriated Funds Personnel Policies and Procedures; Army Regulation 215-8/AFI 34-211(I), Army and Air Force Service Operations; and E.O. 9397 (SSN), as amended.”

* * * * *

Policies and practices for storing, retrieving, accessing, retaining, and disposing of records in the system:

Storage:

Delete entry and replace with “Paper records in file folders and electronic storage media.”

* * * * *

Safeguards:

Delete entry and replace with “Electronic data files reside in restricted areas accessible only to authorized personnel who are properly screened, cleared, and trained. Manual records and computer printouts containing personal identifiers are maintained in locked file cabinets and are available only to individuals having an official need to know.”

Retention and disposal:

Delete entry and replace with “Electronic system is unscheduled and considered permanent pending approval from the National Archives and Records Administration and the Archivist of the United States.”

System manager(s) and address:

Delete entry and replace with “Director/Chief Executive Officer, Army and Air Force Exchange Service, 3911 S. Walton Walker Boulevard, Dallas, TX 75236-1598.”

Notification procedure:

Delete entry and replace with “Individuals seeking to determine whether information about themselves is contained in this system should address written inquiries to the Director/Chief Executive Officer, Army and Air Force Exchange Service, 3911 S. Walton Walker Boulevard, Dallas, TX 75236-1598.

Individuals should provide full name, Social Security Number, current address and telephone number and, if terminated, include date of birth, date of separation, and last employing location.”

Record access procedures:

Delete entry and replace with “Individuals seeking access to information about themselves contained in this system should address written inquiries to the Director/Chief Executive Officer, Army and Air Force Exchange Service, 3911 S. Walton Walker Boulevard, Dallas, TX 75236-1598.

Individuals should provide full name, Social Security Number, current address and telephone number and, if terminated, include date of birth, date of separation, and last employing location.”

* * * * *

Record source categories:

Delete entry and replace with “From the employee, his/her supervisor, Exchange records and reports, Official Personnel Folder.”

* * * * *

[FR Doc. 2013-15152 Filed 6-24-13; 8:45 am]

BILLING CODE 5001-06-P